ENVIRONMENTAL PROTECTION AGENCY

[OEI-10016; FRL-6723-9]

Toxic Chemical Release Reporting; Alternate Threshold for Low Annual Reportable Amounts; Request for Comment on Renewal Information Collection; Correction; Extension of Comment Period

AGENCY: Environmental Protection Agency (EPA).

ACTION: Technical correction; extension of comment period.

SUMMARY: This notice corrects an error published in the Federal Register of July 1, 2002, (67 FR 44197) (FRL-6723-9) concerning a notice announcing that EPA is planning to submit the following continuing Information Collection Request (ICR) to the Office of Management and Budget (OMB) pursuant to the procedures described in 5 CFR 1320.12: Alternate Threshold for Low Annual Reportable Amounts, Toxic Chemical Release Reporting (EPA ICR No. 1704.06, OMB No. 2070-0143). This ICR covers the reporting and record keeping requirements associated with reporting under the alternate threshold for reporting to the Toxics Release Inventory (TRI), which appear in 40 CFR part 372. The location for the Document Control Office (DCO), where comments may be submitted in person or by courier, was incorrectly listed. Also, this notice announces that the TSCA Nonconfidential Information Center, North East Mall, Room B-607, Waterside Mall, 401 M Street, SW., Washington, DC, will be closed from August 12-27, 2002. The Center will move to the EPA West Building basement, 1301 Constitution Avenue, NW., Washington, DC. This center contains the public version of the official record which is available for inspection. Because of these corrections, EPA is extending the comment period by 7 days until September 6, 2002. The comment period for the proposed rule was initially scheduled to close on August 30, 2002.

DATES: Comments, identified by the docket control number OEI-10016, must be received by EPA on or before September 6, 2002.

ADDRESSES: Comments may be submitted by mail, electronically, or in person. Please follow the detailed instructions for each method as provided in Unit III. of the SUPPLEMENTARY INFORMATION section of this notice.

FOR FURTHER INFORMATION: For general information, contact The Emergency Planning and Community Right-to-Know Hotline at (800) 424-9346 or (703) 412-9810, TDD (800)553-7672, http://www.epa.gov/epaoswer/hotline/. For technical information about this Notice and the ICR renewal, contact: Judith Kendall, Toxics Release Inventory Program Division, OEI (2844T), Environmental Protection Agency, 1200 Pennsylvania Ave. NW., Washington, DC 20460, Telephone: 202-566-0750; Fax: 202-566-0727; email: kendall.judith@epa.gov.

SUPPLEMENTARY INFORMATION:

I. Does This Notice Apply to Me?

A. Affected Entities: Entities that will be affected by this action are those facilities that manufacture, process, or otherwise use certain toxic chemicals listed on the Toxics Release Inventory (TRI) and which are required under section 313 of the Emergency Planning and Community Right-to-Know Act of 1986 (EPCRA), to report annually to EPA their environmental releases of such chemicals.

Currently, those industries with the following SIC code designations (that meet all other threshold criteria for TRI reporting) must report toxic chemical releases and other waste management activities:

• 20-39, manufacturing sector

• 10, metal mining (except for SIC codes 1011, 1081, and 1094)

• 12, coal mining (except for SIC code 1241 and extraction activities)

• 4911, 4931 and 4939, electrical utilities that combust coal and/or oil for the purpose of generating power for distribution in commerce

• 4953, RCRA Subtitle C hazardous waste treatment and disposal facilities

• 5169, chemicals and allied products wholesale distributors

• 5171, petroleum bulk plants and terminals

• 7389, solvent recovery services, and

• Federal facilities in any SIC code

To determine whether you or your business is affected by this action, you should carefully examine the applicability provisions at 40 CFR part 372 and section 4(a) of the Supporting Statement of the information collection. If you have any questions regarding the applicability of this action to a particular entity, consult the person(s) listed in the FOR FURTHER INFORMATION CONTACT section.

II. How Can I Get Additional Information or Copies of This Document and Other Support Documents

A. Electronic Availability: Electronic copies of this Notice and the ICR are available from the EPA Home Page at the Federal Register—Environmental Documents entry for this document under “Laws and Regulations” (http://www.epa.gov/fedrgstr/). An electronic copy of the collection instrument referenced in this ICR and instructions for its completion are available at http://www.epa.gov/triinter/#forms.

B. In Person: The Agency has established an official record for this action under docket control number OEI-10016. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099. The TSCA Nonconfidential Information Center will close from August 12-27, 2002. The Center will move to the EPA West Building basement at 1301 Constitution Avenue, NW., Washington, DC. For more information on how to access the information, contact James Wanzer at (202) 566-0729.

III. What Does This Notice Do?

This Notice corrects an error published in the Federal Register of July 1, 2002, (67 FR 44197) (FRL-6723-9), concerning a notice announcing that EPA is planning to submit the following continuing Information Collection Request (ICR) to the Office of Management and Budget (OMB) pursuant to the procedures described in 5 CFR 1320.12: Alternate Threshold for Low Annual Reportable Amounts, Toxic Chemical Release Reporting (EPA ICR No. 1704.06, OMB No. 2070-0143). This ICR covers the reporting and record keeping requirements associated with reporting under the alternate threshold for reporting to the Toxics Release Inventory (TRI), which appear in 40 CFR part 372. The location for the Document Control Office (DCO), where comments may be submitted in person or by courier was incorrectly listed. Also, this notice announces that the TSCA Nonconfidential Information Center, North East Mall, Room B-607, Waterside Mall, 401 M Street, SW, Washington, DC, will be closed from August 12-27, 2002. The Center will move to the EPA West Building basement, 1301 Constitution Avenue, NW, Washington, DC. This center contains the public version of the official record which is available for inspection. Because of these corrections, EPA is extending the comment period by 7 days. Comments concerning EPA's notice announcing its plan to submit the following continuing Information Collection Request (ICR) to the Office of Management and Budget (OMB) pursuant to the procedures described in 5 CFR 1320.12: Alternate Threshold for Low Annual Reportable Amounts, Toxic Chemical Release Reporting (EPA ICR No. 1704.06, OMB No. 2070-0143) are due on or before September 6, 2002. The comment period for the proposed rule was initially scheduled to close on August 30, 2002. The following is the corrected information on how to submit comments for EPA's ICR renewal notice.

A. How and to Whom Do I Submit Comments?

You may submit comments through the mail, in person, or electronically. Be sure to identify the appropriate docket control number (i.e., “OEI-10016”) in your correspondence.

1. By mail. All comments should be sent in triplicate to: Document Control Office (7407), Office of Pollution Prevention and Toxics (OPPT), Environmental Protection Agency, 1200 Pennsylvania Ave., NW, Ariel Rios Building, Washington, DC 20460.

2. In person or by courier. Comments may be delivered in person or by courier to: OPPT Document Control Office (DCO) in the EPA East Building, Room 6428, 1201 Constitution Avenue, NW, Washington, DC. The DCO is open from 8 a.m. to 4 p.m., Monday through Friday, excluding legal holidays. The telephone number for the DCO is (202) 564-8930.

3. Electronically. Submit your comments electronically by e-mail to: oppt.ncic@epa.gov. Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-10016. Electronic comments on this document may also be filed online at many Federal Depository Libraries.

B. How Should I Handle CBI Information That I Want to Submit to the Agency?

All comments which contain information claimed as CBI must be clearly marked as such. Three sanitized copies of any comments containing information claimed as CBI must also be submitted and will be placed in the public record for this document. Persons submitting information on any portion of which they believe is entitled to treatment as CBI by EPA must assert a business confidentiality claim in accordance with 40 CFR 2.203(b) for each such portion. This claim must be made at the time that the information is submitted to EPA. If a submitter does not assert a confidentiality claim at the time of submission, EPA will consider this as a waiver of any confidentiality claim and the information may be made available to the public by EPA without further notice to the submitter.

List of Subjects in 40 CFR Part 372

Environmental protection, Information collection requests, Reporting and recordkeeping requirements.

Dated: July 5, 2002.
Elaine G. Stanley,
Director, Office of Information Analysis and Access, Office of Environmental Information.

[FR Doc. 02-17687 Filed 7-12-02; 8:45 am]

BILLING CODE 6560-50-P